ENVIRONMENTAL PROTECTION AGENCY

[OPP-00439H; FRL-6755-3]

Pesticide Program Dialogue Commitee (PPDC) and Inert Disclosure Stakeholder Workgroup; Notice of Public Meeting

AGENCY: Environmental Protection Agency (EPA).

ACTION: Notice of public meeting.

SUMMARY: The U.S. Environmental Protection Agency (EPA) will hold a public meeting of the Pesticide Program Dialogue Committee (PPDC) on November 29-30, and the PPDC Inert Disclosure Stakeholder Workgroup on November 28, 2000. Agendas for both of these public meetings are under development and will be available by November 20, 2000, on our website at www.epa.gov/pesticides/ppdc/.

DATES: The Inert Disclosure Stakeholder Workgroup meeting will be held on November 28, 2000 from 9 a.m. to 5 p.m. The PPDC meeting will be held on November 29, from 9 a.m. to 5 p.m. and on November 30, from 9 a.m. to 1 p.m.

ADDRESSES: Both public meetings will be held at Radisson Hotel Old Town, 901 North Fairfax Street, Alexandria, VA 22314, telephone number (703) 683-6000.

FOR FURTHER INFORMATION CONTACT: For the PPDC meeting, contact Margie Fehrenbach or Terria Northern, and for the Inert Disclosure Stakeholder Workgroup, contact Cameo Smoot. All are located within the Office of Pesticide Programs, Office of Prevention, Pesticides and Toxic Substances 7501C, U.S. Environmental Protection Agency, 1200 Pennsylvania Ave., NW, Washington, DC 20460; telephone numbers: (703) 308-4775 or (703) 305-7090; fax numbers: (703) 308-4776 or (703) 308-8005; e-mail address: Fehrenbach.Margie@epa.gov, Northern.Terria@epa.gov or Smoot.Cameo@epa.gov.

SUPPLEMENTARY INFORMATION:

I. Does this Action Apply to Me?

This action is directed to the public in general. This action may, however, be of interest to persons who are concerned about implementation of the Food Quality Protection Act (FQPA) (Public Law 104-170) which was passed in 1996 to strengthen the nation's system for regulating pesticides on food; the Federal Insecticide, Fungicide and Rodenticide Act (FIFRA), and the Federal Food, Drug and Cosmetic Act (FFDCA). PPDC was established in 1995 to provide a forum for a diverse group of stakeholders to provide advice and recommendations to EPA regarding pesticide regulatory and policy issues. Since other entities may also be interested, the Agency has not attempted to describe all the specific entities that may be affected by this action. If you have any questions regarding the applicability of this action to a particular entity, consult the persons listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information regarding PPDC, go directly to the Home Page for EPA's Office of Pesticide Programs at http://www.epa.gov/pesticides/ and select ppdc.

2. In person. The Agency has established an administrative record for all PPDC meetings and workgroups under docket control number OPP-00439A. The administrative record consists of the documents specifically referenced in this notice, any public comments received during an applicable comment period, and other information related to the PPDC and workgroups, including any information claimed as Confidential Business Information (CBI). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

3. By mail. You may submit a request to: Public Information and Records Integrity Branch (PIRIB), Information Resources and Services Division (7502C), Office of Pesticide Programs (OPP), Environmental Protection Agency, 1200 Pennsylvania Ave., NW., Washington, DC 20460.

III. How Can I Request to Participate in this Meeting?

PPDC meetings are open to the public under Section 10(a)(2) of the Federal Advisory Committee Act, Public Law 92-463. Outside statements by observers are welcome. Oral statements will be limited to 3-5 minutes, and it is preferred that only one person per organization present the statement. Any person who wishes to file a written statement may do so before or after a PPDC meeting. These statements will become part of the permanent record and will be provided to PPDC members. The permanent record will be available for public inspection at the address in Section II.2 “In person” above. The Agency requests that participants limit their use of fragranced products on behalf of persons attending who have expressed a concern about chemical sensitivity.

IV. Background

PPDC was established as an advisory committee in accordance with the Federal Advisory Committee Act in 1995 for a two-year term; it was renewed in 1997 and again in 1999. The PPDC provides a continuing and transparent forum for a diverse group of stakeholders from across the country to provide advice and recommendations to EPA regarding a broad range of pesticide regulatory development and program implementation issues associated with evaluating and reducing risks from use of pesticides. Membership to the PPDC includes broad geographic representation from the following sectors: environmental/public interest and consumer groups; industry and trade associations; pesticide users; Federal and State/local governments; the general public; academia; and public health organizations.

The Inert Disclosure Stakeholder Workgroup was formed in December 1999 to advise the Pesticide Program Dialogue Committee regarding ways to make information on inert ingredients more available to the public while working within the mandates of the Federal Insecticide, Fungicide and Rodenticide Act and related CBI concerns.

List of Subjects

Environmental protection, Agriculture, Chemicals, Pesticides, Pests, Inert ingredients.

Dated: November 7, 2000.
Joseph J. Merenda Jr.,
Director, Office of Pesticide Programs.

[FR Doc. 00-29052 Filed 11-8-00; 1:56 p.m.]

BILLING CODE 6560-50-S